DEPARTMENT OF AGRICULTURE

Animal and Plant Health Inspection Service

[Docket No. APHIS-2017-0052]

Notice of Request for Revision to and Extension of Approval of an Information Collection; Blood and Tissue Collection and Recordkeeping at Slaughtering, Rendering, and Approved Livestock Marketing Establishments and Facilities

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the regulations for blood and tissue collection and recordkeeping at slaughtering, rendering, and approved livestock marketing establishments and facilities to enhance animal disease surveillance.

DATES: We will consider all comments that we receive on or before September 12, 2017.

ADDRESSES: You may submit comments by either of the following methods:

• Federal eRulemaking Portal: Go to http://www.regulations.gov/#!docketDetail;D=APHIS-2017-0052.

• Postal Mail/Commercial Delivery: Send your comment to Docket No. APHIS-2017-0052, Regulatory Analysis and Development, PPD, APHIS, Station 3A-03.8, 4700 River Road Unit 118, Riverdale, MD 20737-1238.

Supporting documents and any comments we receive on this docket may be viewed at http://www.regulations.gov/#!docketDetail;D=APHIS-2017-0052 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the regulations for blood and tissue collection and recordkeeping at slaughtering, rendering, and approved livestock marketing establishments and facilities, contact Dr. Debra Cox, Senior Staff Veterinarian, Cattle Health Center, SPRS, VS, APHIS, 4700 River Road Unit 43, Riverdale, MD 20737; (301) 851-3504. For copies of more detailed information on the information collection, contact Ms. Kimberly Hardy, APHIS' Information Collection Coordinator, at (301) 851-2483.

SUPPLEMENTARY INFORMATION:

Title: Blood and Tissue Collection and Recordkeeping at Slaughtering, Rendering, and Approved Livestock Marketing Establishments and Facilities.

OMB Control Number: 0579-0212.

Type of Request: Revision to and extension of approval of an information collection.

Abstract: Under the Animal Health Protection Act (7 U.S.C. 8301 et seq.), the Animal and Plant Health Inspection Service (APHIS) of the U. S. Department of Agriculture is authorized, among other things, to take measures to prevent the interstate spread of livestock diseases and for eradicating such diseases from the United States when feasible.

Disease prevention is the most effective method for maintaining a healthy animal population and for enhancing the United States' ability to compete in international animal and animal product trade markets. APHIS uses livestock movement records and epidemiological data from blood and tissue sampling to conduct disease surveillance, assess the prevalence of disease, identify disease sources, and locate other animals that may have come into contact with a diseased animal.

When a disease is suspected in a given area, sampling is used to determine its presence or absence and to estimate the incidence or prevalence if it is present. The amount of sampling may increase in selected areas when a disease outbreak is suspected, then reduced in that area when sufficient tests have been done to prove the suspicion was unfounded or, if found, after the disease is eradicated. Sampling is also used to provide data for new or updated risk analyses in support of disease control programs, and, as required, opening international markets for animal products.

As part of this mission, APHIS' Veterinary Services conducts animal disease surveillance programs, diagnostic testing, and agreements in accordance with the regulations in 9 CFR part 71. Sections 71.20 and 71.21 authorize APHIS to conduct disease surveillance and blood and tissue sampling activities using livestock facility agreements and listing agreements between APHIS and owners and operators of slaughtering and rendering establishments and livestock marketing facilities. Livestock marketing facilities are able to enter into approved livestock facility agreements that include animal identification information requirements, timely notifications, recordkeeping, and other actions that facilitate tracking animal movements and identifying possible disease occurrences. APHIS requires all slaughtering and rendering establishments that receive livestock and poultry through interstate movement to enter into listing agreements that permit the Agency to conduct blood and tissue sampling at the facilities. The agreements are critical during disease outbreaks as they reduce delays in assessments and, subsequently, disease spread.

The information collection requirements above are currently approved by the Office of Management and Budget (OMB) under OMB control numbers 0579-0212 (Blood and Tissue Collection at Slaughtering and Rendering Establishments) and 0579-0258 (Interstate Movement of Sheep and Goats; Recordkeeping for Approved Livestock Marketing Facilities and Slaughtering and Rendering Establishments). After OMB approves this combined information collection package (0579-0212), APHIS will retire OMB control number 0579-0258. Also, as a result of the aforementioned merging of information collection packages, APHIS has revised the name of this information collection from “Blood and Tissue Collection at Slaughtering and Rendering Establishments” to “Blood and Tissue Collection and Recordkeeping at Slaughtering, Rendering, and Approved Livestock Marketing Establishments and Facilities”.

We are asking OMB to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of Burden: The public reporting burden for this collection of information is estimated to average 0.176 hours per response.

Respondents: State health authorities; accredited veterinarians; and owners, operators, and recordkeepers for slaughter and rendering establishments, and livestock marketing facilities.

Estimated Annual Number of Respondents: 2,864.

Estimated Annual Number of Responses per Respondent: 5.

Estimated Annual Number of Responses: 14,010.

Estimated Total Annual Burden on Respondents: 2,471 hours. (Due to averaging, the total annual burden hours may not equal the product of the annual number of responses multiplied by the reporting burden per response.)

All responses to this notice will be summarized and included in the request for OMB approval. All comments will also become a matter of public record.

Done in Washington, DC, on July 10, 2017.
Michael C. Gregoire,
Acting Administrator, Animal and Plant Health Inspection Service.

[FR Doc. 2017-14815 Filed 7-13-17; 8:45 am]

BILLING CODE 3410-34-P